DEPARTMENT OF ENERGY

Federal Energy Regulatory Commission

Combined Notice of Filings #1

Take notice that the Commission received the following electric corporate filings:

Docket Numbers: EC13-53-000.

Applicants: LWP Lessee, LLC.

Description: Amended Joint Application of LWP Lessee, LLC and TAQA US Lakefield Holdings, LLC for Approval under Section 203 of the FPA and Requests for Expedited Consideration and Confidential Treatment.

Filed Date: 1/3/13.

Accession Number: 20130103-5103.

Comments Due: 5 p.m. ET 1/17/13.

Docket Numbers: EC13-57-000.

Applicants: Northampton Generating Company, L.P.

Description: Supplement to the December 28, 2012 Application for Authorization for Disposition of Jurisdictional Facilities of Northampton Generating Company, L.P.

Filed Date: 1/3/13.

Accession Number: 20130103-5053.

Comments Due: 5 p.m. ET 1/18/13.

Take notice that the Commission received the following electric rate filings:

Docket Numbers: ER12-36-000.

Applicants: PacifiCorp.

Description: PacifiCorp submits Refund Report under protest in compliance with the November 20, 2012 Commission Order.

Filed Date: 1/4/13.

Accession Number: 20130104-5025.

Comments Due: 5 p.m. ET 1/25/13.

Docket Numbers: ER12-2484-001.

Applicants: LVI Power, LLC.

Description: LVI Power, LLC submits Notice of Change of company address and update of company ownership.

Filed Date: 1/3/13.

Accession Number: 20130103-5065.

Comments Due: 5 p.m. ET 1/24/13.

Docket Numbers: ER13-37-000; ER13-37-001; ER13-38-000

Applicants: Midwest Independent Transmission System Operator, Inc.

Description: The Midwest Independent Transmission System Operator, Inc submits Deficiency Response to the Commission's December 4, 2012 Letter regarding Proposed SSR Agreement and Associated Rate Schedule for the City of Escanaba, MI.

Filed Date: 1/3/13.

Accession Number: 20130103-5096.

Comments Due: 5 p.m. ET 1/24/13.

Docket Numbers: ER13-695-000.

Applicants: PJM Interconnection, L.L.C.

Description: Original Service Agreement No. 3454; Queue No. X1-094 to be effective 12/5/2012.

Filed Date: 1/3/13.

Accession Number: 20130103-5034.

Comments Due: 5 p.m. ET 1/24/13.

Docket Numbers: ER13-696-000.

Applicants: PJM Interconnection, L.L.C.

Description: Original Service Agreement No. 3455; Queue No. X4-012 to be effective 12/5/2012.

Filed Date: 1/3/13.

Accession Number: 20130103-5043.

Comments Due: 5 p.m. ET 1/24/13.

Docket Numbers: ER13-697-000.

Applicants: PJM Interconnection, L.L.C.

Description: Notice of Cancellation of Original SA No. 3281 in Docket No. ER12-1746-000 to be effective 12/17/2012.

Filed Date: 1/3/13.

Accession Number: 20130103-5044.

Comments Due: 5 p.m. ET 1/24/13.

Docket Numbers: ER13-698-000.

Applicants: Southard Energy Partners LLC.

Description: Southard Energy Partners LLC, FERC Electric Tariff to be effective 2/11/2013.

Filed Date: 1/3/13.

Accession Number: 20130103-5073.

Comments Due: 5 p.m. ET 1/24/13.

Docket Numbers: ER13-699-000.

Applicants: California Independent System Operator Corporation.

Description: 2013-01-03 Tariff Amendment—Black Start and System Restoration Plan to be effective 4/3/2013.

Filed Date: 1/3/13.

Accession Number: 20130103-5074.

Comments Due: 5 p.m. ET 1/24/13.

Docket Numbers: ER13-700-000.

Applicants: AV Solar Ranch 1, LLC.

Description: Request for Category 1 Seller Status and Revised Market-Based Rate Tariff to be effective 1/4/2013.

Filed Date: 1/3/13.

Accession Number: 20130103-5075.

Comments Due: 5 p.m. ET 1/24/13.

Docket Numbers: ER13-701-000.

Applicants: Midwest Independent Transmission System Operator, Inc.

Description: The Midwest Independent Transmission System Operator, Inc. submits Notice of Termination of Generator Interconnection Agreement for Project No. G517.

Filed Date: 1/3/13.

Accession Number: 20130103-5090.

Comments Due: 5 p.m. ET 1/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2013.
Nathaniel J. Davis, Sr.,
Deputy Secretary.

[FR Doc. 2013-00403 Filed 1-10-13; 8:45 am]

BILLING CODE 6717-01-P